DEPARTMENT OF AGRICULTURE

Rural Utilities Service

Associated Electric Cooperative; Notice of Finding of No Significant Impact

AGENCY: Rural Utilities Service, USDA.

ACTION: Notice of finding of no significant impact.

SUMMARY: Notice is hereby given that the Rural Utilities Service (RUS) has made a finding of no significant impact with respect to a request from Associated Electric Cooperative for financing assistance from RUS to finance the construction of a natural gas fired combustion turbine electric generation plant in Johnson County, Missouri.

FOR FURTHER INFORMATION CONTACT: Bob Quigel, Environmental Protection Specialist, Engineering and Environmental Staff, RUS, Stop 1571, 1400 Independence Avenue, SW., Washington, D.C. 20250-1571, telephone (202) 720-0468, e-mail at bquigel@rus.usda.gov.

SUPPLEMENTARY INFORMATION: Associated Electric Cooperative proposes to construct and operate three, 100-megawatt, simple cycle combustion turbine generators on an 80 acre site. The entire plant would use about 11 acres of the site. The site is located approximately 2 miles north of Holden, Missouri. State Highway 131 borders the eastern edge of the site.

The primary fuel for the units would be natural gas with fuel oil backup. The generators are Siemens Westinghouse V84.2 dry low-nitrogen combustors. Each generating unit would be approximately 60 feet wide and 150 feet long. The exhaust stacks would be 90 feet high. An electric substation, a 100-foot by 60-foot maintenance building, water storage tanks, fuel oil storage tank and unloading area, a gas conditioning area and pump house would be located near the combustion turbines. A 150-foot microwave tower would be located on site to enable the control of the plant from a remote location. A 1,300-foot natural gas pipeline and approximately 2.6 miles of electric transmission lines will be needed at the site to supply natural gas to the units and connect them to the existing electric transmission grid. The electric transmission lines will be made up of two 161 kV circuits and two, 69 kV circuits. Single steel, self weathering, poles will be used to support the conductors. The circuits will be made up of two parallel lines on a 150-foot wide right-of-way. Each line will support one 161 kV circuit and one 69 kV underbuild.

Copies of the Finding of No Significant Impact are available from RUS at the address provided herein or from Jerry Bindel of Associated Electric Cooperative, P.O. Box 754, Springfield, Missouri 65801-0754 telephone (417) 885-9272. Mr. Bindel's e-mail address is jbindel@aeci.org.

Dated: February 22, 2001.
Blaine D. Stockton, Jr.,
Assistant Administrator, Electric Program, Rural Utilities Service.

[FR Doc. 01-6074 Filed 3-9-01; 8:45 am]

BILLING CODE 3410-15-P